DEPARTMENT OF ENERGY

Federal Energy Regulatory Commission

18 CFR Part 375

[Docket No. RM26-10-000; Order No. 916]

Transfer of Delegation of Authority From the Office of Energy Policy and Innovation to the Office of Technical Reporting and Economics and to the Office of the General Counsel

AGENCY: Federal Energy Regulatory Commission (Commission or FERC).

ACTION: Final rule.

SUMMARY: The Commission is issuing this final rule to revise its delegations of authority to align with an internal Commission reorganization, which reassigned certain responsibilities from the former Office of Energy Policy and Innovation (OEPI), which has been disbanded, to the new Office of Technical Reporting and Economics (OTRE) and to the Office of the General Counsel (OGC). This final rule transfers delegated authority from the Director of OEPI to the Director of OTRE and to the General Counsel, to allow their respective offices to process routine, non-controversial matters efficiently.

DATES: This final rule is effective February 2, 2026.

FOR FURTHER INFORMATION CONTACT: Kaitlin Johnson, Office of Technical Reporting and Economics, Federal Energy Regulatory Commission, 888 First Street NE, Washington, DC 20426, (202) 502-8542. kaitlin.johnson@ferc.gov.

SUPPLEMENTARY INFORMATION:

I. Background

1. In order to expeditiously complete its business, the Commission delegates specific authority for certain routine and non-controversial decision-making to Office Directors, as enumerated in the Commission's regulations. Following an internal reorganization, the Commission may need to revise such delegations to align with that reorganization.

II. Discussion

2. As of October 5, 2025, the Commission's former Office of Energy Policy and Innovation (OEPI) has been disbanded as part of an internal reorganization. That reorganization also included establishment of a new Office of Technical Reporting and Economics (OTRE), which will undertake some functions that were carried out by OEPI. Certain other formerly OEPI functions will be carried out by the Office of the General Counsel (OGC). In order to process routine and non-controversial matters efficiently, including forms, filings, and data requests, the authority that the Commission had previously delegated to the Director of OEPI in 18 CFR 375.315 will be revised such that this authority is now delegated to the Director of OTRE, or the Director's designee. The authority over Report of Transmission Investment Activity (FERC-730), as described in 18 CFR 375.315(a)(2)-(4), will be delegated to the General Counsel or their designee.

III. Information Collection Statement

3. Office of Management and Budget (OMB) regulations require OMB to approve certain information collection requirements imposed by agency rule.¹ This final rule, however, results in no new, additional, or different public reporting burden. This final rule does not require public utilities or natural gas companies to file new, additional, or different information, and it does not change the frequency with which they must file information.

¹ 5 CFR 1320.13.

IV. Environmental Analysis

4. The Commission is required to prepare an Environmental Assessment or an Environmental Impact Statement for any action that may have a significant adverse effect on the human environment.² Excluded from this requirement are rules that are procedural, ministerial, or internal administrative and management actions, programs or decisions.³ This rule falls within this exception; consequently, no environmental consideration is necessary.

² Reguls. Implementing the Nat'l Env't Pol'y Act of 1969, Order No. 486, 52 FR 47897 (Dec. 17, 1987), FERC Stats. & Regs. ¶ 30,783 (1987) (cross-referenced at 41 FERC ¶ 61,284).

³ 18 CFR 380.4(a)(1).

V. Regulatory Flexibility Act

5. The Regulatory Flexibility Act of 1980 (RFA) ⁴ generally requires a description and analysis of final rules that will have significant economic impact on a substantial number of small entities. This final rule changes the Commission's delegations of authority to take certain actions and does not create any additional requirements for filers. The Commission thus certifies that it will not have a significant economic impact upon participants in Commission proceedings. An analysis under the RFA is therefore not required.

⁴ 5 U.S.C. 601-612.

VI. Regulatory Planning and Review

6. Executive Order 12866 (Regulatory Planning and Review),⁵ as amended by Executive Orders 14215 (Ensuring Accountability for All Agencies) ⁶ and 13563 (Improving Regulation and Regulatory Review),⁷ directs agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility. This final rule regards “agency organization, management, or personnel matters” and is not subject to regulatory planning and review pursuant to section 3(d)(3) of Executive Order 12866.

⁵ 58 FR 51735 (Oct. 4, 1993).

⁶ 90 FR 10447 (Feb. 18, 2025).

⁷ 76 FR 3821 (Jan. 18, 2011).

VII. Executive Order 13132 (Federalism)

7. Executive Order 13132 (Federalism) ⁸ imposes certain requirements on Federal agencies formulating and implementing policies or regulations that preempt State law or that have federalism implications. The Executive Order requires agencies to examine the constitutional and statutory authority supporting any action that would limit the policymaking discretion of the States and to carefully assess the necessity for such actions. The Commission has determined that this final rule would not have a substantial direct effect on the States, on the relationship between the national government and the States, or on the distribution of power and responsibilities among the various levels of government. Therefore, the Commission has not prepared a federalism assessment.

⁸ 64 FR 43255 (Aug. 10, 1999).

VIII. Document Availability

8. In addition to publishing the full text of this document in the Federal Register, the Commission provides all interested persons an opportunity to view and/or print the contents of this document via the internet through the Commission's Home Page (http://www.ferc.gov).

9. From the Commission's Home Page on the internet, this information is available on eLibrary. The full text of this document is available on eLibrary in PDF and Microsoft Word format for viewing, printing, and/or downloading. To access this document in eLibrary, type the docket number excluding the last three digits of this document (i.e., the sub docket number, 000) in the docket number field.

10. User assistance is available for eLibrary, the Public Reference Service, and the Commission's website during normal business hours from FERC Online Support at (202) 502-6652 (toll free at (866) 208-3676) or email at ferconlinesupport@ferc.gov.

IX. Effective Date and Congressional Notification

11. The Commission is issuing this rule as an instant final rule without a period for public comment. These regulations are effective on February 2, 2026. The Commission finds that notice and public comments are unnecessary because this final rule concerns only internal agency procedure and practice. Therefore, the Commission finds good cause to waive the notice period otherwise required before the effective date of this final rule.

List of Subjects in 18 CFR Part 375

Authority delegations (Government agencies), Seals and insignia, Sunshine Act.

By the Commission.
Issued: January 28, 2026.
Debbie-Anne A. Reese,
Secretary.

In consideration of the foregoing, the Commission amends part 375, Chapter I, Title 18, Code of Federal Regulations, as follows:

PART 375—THE COMMISSION

1. The authority citation for part 375 continues to read as follows:

Authority: 5 U.S.C. 551-557; 15 U.S.C. 717-717w, 3301-3432; 16 U.S.C. 791-825r, 2601-2645; 42 U.S.C. 7101-7352.

2. Revise and republish § 375.315 to read as follows:

§ 375.315 Delegations to the Director of the Office of Technical Reporting and Economics.

The Commission authorizes the Director or the Director's designee to:

(a) Take appropriate action on:

(1) Any notice of intervention or motion to intervene, filed in an uncontested proceeding processed by Office of Technical Reporting and Economics;

(2) Applications or motions for extensions of time to file required filings, reports, data and information and to perform other acts required at or within a specific time by any rule, regulation, license, permit, certificate, or order by the Commission, including applications or motions for extensions of time to file the Annual Report of Natural Gas Transactions (FERC Form No. 552);

(3) Requests or petitions for waiver of the requirements of the Annual Report of Natural Gas Transactions (FERC Form No. 552); and

(4) Notification to a party if a submitted Annual Report of Natural Gas Transactions (FERC Form No. 552) fails to comply with applicable statutory requirements, and with all applicable Commission rules, regulations, and orders for which a waiver has not been granted, or, when appropriate notify a party that a submission is acceptable.

(b) Undertake the following actions:

(1) Issue reports for public information purposes. Any report issued without Commission approval must

(i) Be of a noncontroversial nature, and

(ii) Contain the statement, “This report does not necessarily reflect the views of the Commission,” in bold face type on the cover;

(2) Issue and sign requests for additional information regarding applications, filings, reports and data processed by the Office of Technical Reporting and Economics; and

(3) Accept for filing data and reports required by Commission regulations, rules, orders, or presiding officers' initial decisions upon which the Commission has taken no further action, if such filings are in compliance with such regulations, rules, orders or decisions and, when appropriate, notify the filing party of such acceptance.

3. Amend § 375.309 by adding paragraph (j) to read as follows:

§ 375.309 Delegations to the General Counsel.

* * * * *

(j) Take appropriate action on the Report of Transmission Investment Activity (FERC-730), including: applications or motions for extensions of time to file the Report of Transmission Investment Activity (FERC-730); requests or petitions for waiver of the requirements of the Report of Transmission Investment Activity (FERC-730); and notification to a party if a submitted Report of Transmission Investment Activity (FERC-730) fails to comply with applicable statutory requirements.

[FR Doc. 2026-02033 Filed 1-30-26; 8:45 am]

BILLING CODE 6717-01-P